DEPARTMENT OF COMMERCE

International Trade Administration

(A-357-812)

Honey from Argentina: Final Results of Antidumping Duty Administrative Review

AGENCY: Import Administration, International Trade Administration, Department of Commerce.

SUMMARY: The Department of Commerce (the Department) has conducted an administrative review of the antidumping duty order on honey from Argentina produced and/or exported by Asociacion de Cooperativas Argentinas (ACA), Compania Apicola Argentina (CAA), HoneyMax S.A. (HoneyMax), Nexco S.A. (Nexco), Nutrin S.A (Nutrin), Seylinco S.A. (Seylinco), and TransHoney S.A. (TransHoney). The period of review (POR) is December 1, 2002, to November 30, 2003. Based on our analysis of comments received, the margin calculations for these final results do not differ from the preliminary results. The margin calculations for these final results are listed below in the “Final Results of Review” section.

EFFECTIVE DATE: April 15, 2005.

FOR FURTHER INFORMATION CONTACT: Angela Strom for ACA, Nexco and Nutrin, Brian Sheba for HoneyMax and Seylinco, David Cordell for TransHoney and CAA, or Robert James, AD/CVD Operations, Office 7, Import Administration, International Trade Administration, U.S. Department of Commerce, 14th Street and Constitution Avenue, NW, Washington, DC 20230, telephone (202) 482-2704, (202) 482-0145, (202) 482-0408, (202) 482-0469 respectively.

SUPPLEMENTARY INFORMATION:

Background

On December 27, 2004, the Department published the preliminary results of the 2002-2003 antidumping duty administrative review of honey from Argentina. See Honey from Argentina: Preliminary Results of Antidumping Duty Administrative Review, 69 FR 77195 (Preliminary Results). The review covers sales by seven exporters: ACA, CAA, HoneyMax, Nexco, Nutrin, Seylinco, and TransHoney, (collectively, the respondents), and the period December 1, 2002, through November 30, 2003. In the preliminary results, we invited parties to comment. CAA submitted a case brief January 26, 2005. Neither Petitioner nor any of the other respondents submitted direct comments, and no party submitted filed rebuttal comments.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise is currently classifiable under subheadings 0409.00.00, 1702.90.90, and 2106.90.99 of the Harmonized Tariff Schedule of the United States (HTSUS). Although the HTSUS subheadings are provided for convenience and Customs purposes, the Department's written description of the merchandise under this order is dispositive.

Analysis of Comments Received

Comment 1: Company-specific Dumping Margins.

In the Preliminary Results, the Department listed only the name of the requesting company, CAA. CAA argues the final results should include the names of both Mielar and CAA, as both CAA and Mielar were treated by the Department as a single entity for purposes of the review. CAA argues both CAA and Mielar filed combined questionnaire responses, were verified together, and sales and expense information for both companies was used in the dumping analysis conducted by the Department. CAA contends the preliminary results makes clear that the “Department determined that CAA, Mielar and El Chelibo (Chelibo) are affiliated....and that the Department should treat the three companies as a single entity for the purposes of this administrative review.” See CAA/Mielar's Case Brief at 2.

CAA believes the Department should list both exporting company names, namely CAA and Mielar, in the company-specific rates and in liquidation and cash deposit instructions issued to U.S. Customs and Border Protection (CBP) to ensure there is no error or misunderstanding. CAA cites a number of decisions including Stainless Steel Wire Rods From India: Preliminary Results of Antidumping Duty Administrative Review, Intent To Revoke Order In Part, and Extension of Time for the Final Results of Review, 70 FR 1413, 1416 (January 7, 2005) (Stainless Steel Wire Rod from India), where the Department decided “to treat Isibars and its affiliates as a single entity and calculate a single dumping margin.” See CAA/Mielar's Case Brief at 5 and 6 for other case citations.

Department's Position: We agree with CAA and Mielar because both our Preliminary Results and the memorandum entitled, “Relationship of Compania Apicola Argentina S.A., (CAA) El Chelibo S.A. (Chelibo), and Mielar, S.A. (Mielar) in the 2002-2003 Administrative Review of AD Order on Honey from Argentina” dated June 30, 2004, illustrate “that the companies should receive a single antidumping duty rate.” Accordingly, we will assign a single rate to the entity composed of CAA, Mielar and Chelibo.

Changes Since the Preliminary Results

Based on our analysis of comments received, we have made no changes in the margin calculation. However, we have made changes to the company names within the manufacturer/exporter column of the weighted average margin table.

Final Results of Review

We determine that the following dumping margins exist for the period December 1, 2002, through November 30, 2003.

Manufacturer / Exporter | Weighted Average Margin (percentage)
Asociacion de Cooperativas Argentinas | 0
Compania Apicola Argentina S.A., Mielar S.A., and El Chelibo S.A. | 0
HoneyMax S.A | 0
Nexco S.A. | 0.38 (de minimis)
Nutrin S.A. | 55.15
Seylinco S.A. | 0
TransHoney S.A | 0

Assessment

The Department shall determine, and the CBP shall assess, antidumping duties on all appropriate entries. In accordance with 19 CFR 351.212(b)(1), we have calculated importer-specific assessment rates. The Department will issue appropriate assessment instructions directly to CBP within 15 days of publication of these final results of review. We will direct CBP to assess the resulting assessment rate against the entered customs values for the subject merchandise on each of the importer's entries during the POR.

Cash Deposit Requirements

The following cash deposit requirements will be effective upon publication of the final results of this administrative review for all shipments of the subject merchandise entered, or withdrawn from warehouse, for consumption on or after the publication date, as provided for by section 751(a)(1) of the Tariff Act of 1930, as amended (the Tariff Act): (1) For the companies named above, the cash deposit rates will be the rates for these firms shown above, except that, for exporters with de minimis rates (i.e., less than 0.5 percent), no deposit will be required; (2) for previously-reviewed producers and exporters with separate rates, the cash deposit rate will be the company-specific rate established for the most recent period for which they were reviewed; and (3) for all other producers and exporters, the rate will be 30.24 percent, the “all others” rate established in the less than fair value investigation as established in the Antidumping Duty Order. See Notice of Antidumping Duty Order; Honey From Argentina, 66 FR 63672 (Dec. 10, 2001). These deposit requirements, when imposed, shall remain in effect until publication of the final results of the next administrative review. This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this determination and notice in accordance with sections section 751(a)(1) and 777(i)(1) of the Tariff Act.

Dated: April 8, 2005.
Joseph A. Spetrini
Acting Assistant Secretary for Import Administration.

[FR Doc. E5-1788 Filed 4-15-05; 8:45 am]

Billing Code: 3510-DS-S